FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 31, 2015.

A. Federal Reserve Bank of St. Louis (Yvonne Sparks, Community Development Officer) P.O. Box 442, St. Louis, Missouri 63166-2034:

1. Joel A. Montgomery, Jr., St. Louis, Missouri, as trustee, of the RHM IV 2015 Irrevocable Bank Trust, WJM 2015 Irrevocable Bank Trust, JMF 2015 Irrevocable Bank Trust, and the JAMJR 2015 Irrevocable Bank Trust; and Richard H. Montgomery III, Sikeston, Missouri, as trustee, of the MMM 2015 Irrevocable Bank Trust and RHM III 2015 Irrevocable Bank Trust, to retain and acquire additional voting shares of Montgomery Bancorporation, Inc., and thereby indirectly retain and acquire additional voting shares of Montgomery Bank, N.A., both in Sikeston, Missouri.

Board of Governors of the Federal Reserve System, December 11, 2015.
Margaret McCloskey Shanks,
Deputy Secretary of the Board.

[FR Doc. 2015-31601 Filed 12-15-15; 8:45 am]

BILLING CODE 6210-01-P